DEPARTMENT OF ENERGY

Agency Information Collection Extension

AGENCY: U.S. Department of Energy.

ACTION: Submission for Office of Management and Budget (OMB) review; comment request.

SUMMARY: The Department of Energy (DOE) has submitted an information collection request to the OMB for extension under the provisions of the Paperwork Reduction Act of 1995. The information collection requests a three-year extension of its Occupational Radiation Protection Program, OMB Control Number 1910-5105. This information collection request covers information necessary to permit DOE and its contractors to provide management control and oversight over health and safety programs concerning worker exposure to ionizing radiation.

DATES: Comments regarding this collection must be received on or before February 2, 2011. If you anticipate that you will be submitting comments, but find it difficult to do so within the period of time allowed by this notice, please advise the OMB Desk Officer of your intention to make a submission as soon as possible. The Desk Officer may be telephoned at (202) 395-4650.

ADDRESSES: Written comments should be sent to the DOE Desk Officer, Office of Information and Regulatory Affairs, Office of Management and Budget, New Executive Office Building, Room 10102, 735 17th Street, NW., Washington, DC 20503 and to Judith D. Foulke by facsimile at (301) 903-7773 or by e-mail at judy.foulke@hq.doe.gov.

FOR FURTHER INFORMATION CONTACT: The DOE person listed in ADDRESSES.

SUPPLEMENTARY INFORMATION: This information collection request contains: (1) OMB No: 1910-5105; (2) Information Collection Request Title: Occupational Radiation Protection Program; (3) Purpose: Needs and Uses: The information that 10 CFR 835 requires DOE major facilities management contractors to produce, maintain, and/or report is necessary to permit the Department to manage and oversee health and safety programs that control worker (i.e., DOE employees, contractor and sub-contractor employees, and visiting workers) exposure to radiation; (4) Estimated Number of Respondents: 34; (5) Estimated Total Burden Hours: 41,500; and (6) Number of Collections: This information collection request contains six (6) information and/or recordkeeping requirements.

Statutory Authority: Title 10, Code of Federal Regulations, part 835, subpart H.

Issued in Washington, DC, on December 23, 2010.
Lesley A. Gasperow,
Director, Office of Resource Management (HS-1.2), Office of Health, Safety and Security.

[FR Doc. 2010-33070 Filed 12-30-10; 8:45 am]

BILLING CODE 6450-01-P